FEDERAL COMMUNICATIONS COMMISSION

47 CFR Part 73

[DA 06-794; MB Docket No. 05-100, RM-11181; MB Docket No. 05-153, RM-11223]

Radio Broadcasting Services; Encino, TX; and Steamboat Springs, CO

AGENCY: Federal Communications Commission.

ACTION: Final rule.

SUMMARY: This document allots two new allotments in Encino, Texas and Steamboat Springs, Colorado. The Audio Division, at the request of Linda Crawford, allots Channel 250A at Encino, Texas, as the community's second local aural transmission service. The reference coordinates for Channel 250A at Encino are 26-56-09 North Latitude and 98-08-06 West Longitude. The allotment requires no site restriction because the location is at city reference coordinates. SUPPLEMENTARY INFORMATION, infra.

DATES: Effective May 22, 2006. The window period for filing applications for these allotments will not be opened at this time. Instead, the issue of opening these allotments for auction will be addressed by the Commission in a subsequent order.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket Nos. 05-100 and 05-153, adopted April 5, 2006 and released April 7, 2006. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20054, telephone 1-800-378-3160 or http://www.BCPIWEB.com. The Commission will send a copy of this Report and Order in a report to be sent to Congress and the Government Accountability Office pursuant to the Congressional Review Act, see 5 U.S.C. 801(a)(1)(A).

The Audio Division, at the request of Dana J. Puopolo, allots Channel 289A at Steamboat Springs, Colorado, as the community's third FM commercial broadcast service. The reference coordinates for Channel 289A at Steamboat Springs are 40-30-00 North Latitude and 106-54-00 West Longitude. The allotment requires a site restriction of 6.1 kilometers (3.8 miles) west of the community to avoid a short-spacing to the licensed site of FM Station KJAC, Channel 288C1, Timnath, Colorado.

List of Subjects in 47 CFR Part 73

Radio, Radio broadcasting.

The Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Colorado, is amended by adding Channel 289A at Steamboat Springs.

3. Section 73.202(b), the Table of FM Allotments under Texas, is amended by adding Channel 250A at Encino.

Federal Communications Commission.
John A. Karousos,
Assistant Chief, Audio Division, Media Bureau.

[FR Doc. 06-4076 Filed 5-2-06; 8:45 am]

BILLING CODE 6712-01-P